NATIONAL ARCHIVES AND RECORDS ADMINISTRATION

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: December 1, 2004, from 10 a.m. to 11 a.m.

ADDRESSES: The U.S. Capitol Building, Room S-312, Washington, DC.

FOR FURTHER INFORMATION CONTACT: Richard H. Hunt, Director; Center for Legislative Archives; (202) 501-5350.

SUPPLEMENTARY INFORMATION:

Agenda:

Institute on Congress and American History.

Senate Governmental Affairs Committee Electronic Records.

Mail Irradiation Issues.

Activities Report of the Center for Legislative Archives.

Other current issues and new business.

The meeting is open to the public.

Dated: November 9, 2004.
Mary Ann Hadyka,
Committee Management Officer.

[FR Doc. 04-25328 Filed 11-15-04; 8:45 am]

BILLING CODE 7515-01-P